DEPARTMENT OF ENERGY

Federal Energy Regulatory Commission

Combined Notice of Filings #1

Take notice that the Commission received the following electric corporate filings:

Docket Numbers: EC24-58-000.

Applicants: Global Infrastructure Management, LLC, BlackRock, Inc.

Description: Response to 06/05/2024, Deficiency Letter of Global Infrastructure Management, LLC.

Filed Date: 6/18/24.

Accession Number: 20240618-5186.

Comment Date: 5 p.m. ET 7/9/24.

Take notice that the Commission received the following electric rate filings:

Docket Numbers: ER24-1396-000.

Applicants: Massachusetts Electric Company.

Description: Refund Report: 2024-06-18 Refund Filing for MECO Borderline 2023 Rate Update Filing to be effective N/A.

Filed Date: 6/18/24.

Accession Number: 20240618-5154.

Comment Date: 5 p.m. ET 7/9/24.

Docket Numbers: ER24-1824-001.

Applicants: PJM Interconnection, L.L.C.

Description: Tariff Amendment: Amendment of Second Amended WMPA, SA No. 5696; AF1-140 in Docket ER24-1824 to be effective 6/24/2024.

Filed Date: 6/20/24.

Accession Number: 20240620-5270.

Comment Date: 5 p.m. ET 7/11/24.

Docket Numbers: ER24-2301-000.

Applicants: PJM Interconnection, L.L.C.

Description: 205(d) Rate Filing: Original WMPA No. 7260, Queue AF1-292 to be effective 5/20/2024.

Filed Date: 6/18/24.

Accession Number: 20240618-5158.

Comment Date: 5 p.m. ET 7/9/24.

Docket Numbers: ER24-2302-000.

Applicants: Twin Lakes Solar LLC.

Description: Baseline eTariff Filing: Application for Market-Based Rate Authorization, Request for Related Waivers to be effective 8/1/2024.

Filed Date: 6/18/24.

Accession Number: 20240618-5167.

Comment Date: 5 p.m. ET 7/9/24.

Docket Numbers: ER24-2303-000.

Applicants: PJM Interconnection, L.L.C.

Description: 205(d) Rate Filing: Amendment to ISA No. 5212 & CSA No. 5213, AB2-077, AB2-078, AB2-079 to be effective 8/20/2024.

Filed Date: 6/20/24.

Accession Number: 20240620-5016.

Comment Date: 5 p.m. ET 7/11/24.

Docket Numbers: ER24-2304-000.

Applicants: PJM Interconnection, L.L.C.

Description: 205(d) Rate Filing: Amendment to AE2-342 ISA No. 6235 & CSA No. 6236 to be effective 8/20/2024.

Filed Date: 6/20/24.

Accession Number: 20240620-5020.

Comment Date: 5 p.m. ET 7/11/24.

Docket Numbers: ER24-2305-000.

Applicants: American Transmission Systems, Incorporated, PJM Interconnection, L.L.C.

Description: 205(d) Rate Filing: American Transmission Systems, Incorporated submits tariff filing per 35.13(a)(2)(iii: ATSI submits one Construction Agreement, SA No. 7166 to be effective 9/23/2022.

Filed Date: 6/20/24.

Accession Number: 20240620-5051.

Comment Date: 5 p.m. ET 7/11/24.

Docket Numbers: ER24-2306-000.

Applicants: Midcontinent Independent System Operator, Inc.

Description: 205(d) Rate Filing: 2024-06-20_SA 3479 Ameren Illinois-Boomtown Solar Energy 1st Rev GIA (J800) to be effective 6/12/2024.

Filed Date: 6/20/24.

Accession Number: 20240620-5053.

Comment Date: 5 p.m. ET 7/11/24.

Docket Numbers: ER24-2307-000.

Applicants: Virginia Electric and Power Company, PJM Interconnection, L.L.C.

Description: 205(d) Rate Filing: Virginia Electric and Power Company submits tariff filing per 35.13(a)(2)(iii: VEPCO submits one Construction Agreement, SA No. 7255 to be effective 8/19/2024.

Filed Date: 6/20/24.

Accession Number: 20240620-5066.

Comment Date: 5 p.m. ET 7/11/24.

Docket Numbers: ER24-2309-000.

Applicants: Southwest Power Pool, Inc.

Description: 205(d) Rate Filing: Revisions to Attachment W to Update Index of Grandfathered Agreements (RR 604) to be effective 8/20/2024.

Filed Date: 6/20/24.

Accession Number: 20240620-5083.

Comment Date: 5 p.m. ET 7/11/24.

Docket Numbers: ER24-2310-000.

Applicants: Midcontinent Independent System Operator, Inc.

Description: 205(d) Rate Filing: 2024-06-20_SA 3482 ATC-Wisconsin Electric Power 3rd Rev GIA (J878 J1316) to be effective 6/11/2024.

Filed Date: 6/20/24.

Accession Number: 20240620-5084.

Comment Date: 5 p.m. ET 7/11/24.

Docket Numbers: ER24-2311-000.

Applicants: Midcontinent Independent System Operator, Inc.

Description: 205(d) Rate Filing: 2024-06-20_SA 4187 Duke Energy IN-Galea Springs SPV 1st Rev GIA (J1388) to be effective 6/11/2024.

Filed Date: 6/20/24.

Accession Number: 20240620-5088.

Comment Date: 5 p.m. ET 7/11/24.

Docket Numbers: ER24-2312-000.

Applicants: Tri-State Generation and Transmission Association, Inc.

Description: 205(d) Rate Filing: Amendment to Rate Schedule FERC No. 3 to be effective 8/19/2024.

Filed Date: 6/20/24.

Accession Number: 20240620-5135.

Comment Date: 5 p.m. ET 7/11/24.

Docket Numbers: ER24-2313-000.

Applicants: PJM Interconnection, L.L.C.

Description: Tariff Amendment: Notice of Cancellation of WMPA, SA No. 5830; AF2-268 re: withdrawal to be effective 8/20/2024.

Filed Date: 6/20/24.

Accession Number: 20240620-5146.

Comment Date: 5 p.m. ET 7/11/24.

Docket Numbers: ER24-2314-000.

Applicants: Black Hills Power, Inc.

Description: 205(d) Rate Filing: Second Amended and Restated GDEMA between BHP and BH Wyoming to be effective 7/1/2024.

Filed Date: 6/20/24.

Accession Number: 20240620-5151.

Comment Date: 5 p.m. ET 7/11/24.

Docket Numbers: ER24-2315-000.

Applicants: AEP Texas Inc.

Description: 205(d) Rate Filing: AEPTX-BT Cantwell 3rd Amended Generation Interconnection Agreement to be effective 5/28/2024.

Filed Date: 6/20/24.

Accession Number: 20240620-5158.

Comment Date: 5 p.m. ET 7/11/24.

Docket Numbers: ER24-2316-000.

Applicants: Black Hills Power, Inc.

Description: 205(d) Rate Filing: Second Amended and Restarted GDEMA between BHP and BHCOE to be effective 7/1/2024.

Filed Date: 6/20/24.

Accession Number: 20240620-5164.

Comment Date: 5 p.m. ET 7/11/24.

Docket Numbers: ER24-2317-000.

Applicants: PJM Interconnection, L.L.C.

Description: Tariff Amendment: Notice of Cancellation of WMPA, SA No. 5740; AF2-272 re: withdrawal to be effective 8/20/2024.

Filed Date: 6/20/24.

Accession Number: 20240620-5167.

Comment Date: 5 p.m. ET 7/11/24.

Docket Numbers: ER24-2318-000.

Applicants: PJM Interconnection, L.L.C.

Description: Tariff Amendment: Notice of Cancellation of ISA, SA No. 7151; AE1-059 re: cancellation to be effective 8/20/2024.

Filed Date: 6/20/24.

Accession Number: 20240620-5182.

Comment Date: 5 p.m. ET 7/11/24.

Docket Numbers: ER24-2319-000.

Applicants: Tri-State Generation and Transmission Association, Inc.

Description: 205(d) Rate Filing: Amendment to Rate Schedule FERC No. 22 to be effective 8/19/2024.

Filed Date: 6/20/24.

Accession Number: 20240620-5190.

Comment Date: 5 p.m. ET 7/11/24.

Docket Numbers: ER24-2320-000.

Applicants: PJM Interconnection, L.L.C.

Description: Tariff Amendment: Notice of Cancellation—CMS Energy—SA No. 4164 to be effective 8/21/2024.

Filed Date: 6/20/24.

Accession Number: 20240620-5234.

Comment Date: 5 p.m. ET 7/11/24.

Docket Numbers: ER24-2321-000.

Applicants: ITC Great Plains, LLC.

Description: 205(d) Rate Filing: Contribution in Aid of Construction Agreement to be effective 8/20/2024.

Filed Date: 6/20/24.

Accession Number: 20240620-5236.

Comment Date: 5 p.m. ET 7/11/24.

Docket Numbers: ER24-2322-000.

Applicants: Black Hills Power, Inc.

Description: 205(d) Rate Filing: Fifth Amended and Restated GDEMA between BHP and CLFP to be effective 7/1/2024.

Filed Date: 6/20/24.

Accession Number: 20240620-5257.

Comment Date: 5 p.m. ET 7/11/24.

Docket Numbers: ER24-2323-000.

Applicants: Black Hills Power, Inc.

Description: 205(d) Rate Filing: Third Amended and Restated GDEMA between BHP and City of Gillette to be effective 7/1/2024.

Filed Date: 6/20/24.

Accession Number: 20240620-5263.

Comment Date: 5 p.m. ET 7/11/24.

Docket Numbers: ER24-2324-000.

Applicants: Public Service Company of Colorado.

Description: 205(d) Rate Filing: 2024-06-20 TSGT-WAPA-BAMA-Lamar-773 to be effective 8/20/2024.

Filed Date: 6/20/24.

Accession Number: 20240620-5264.

Comment Date: 5 p.m. ET 7/11/24.

Docket Numbers: ER24-2325-000.

Applicants: Black Hills Power, Inc.

Description: 205(d) Rate Filing: Third Amended and Restated GDEMA between BHP and MDU to be effective 7/1/2024.

Filed Date: 6/20/24.

Accession Number: 20240620-5275.

Comment Date: 5 p.m. ET 7/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 20, 2024.
Debbie-Anne A. Reese,
Acting Secretary.

[FR Doc. 2024-14051 Filed 6-26-24; 8:45 am]

BILLING CODE 6717-01-P